DEPARTMENT OF AGRICULTURE

U.S. Codex Office

[Docket No. USDA-2020-0007]

International Standard-Setting Activities

AGENCY: Office of Trade and Foreign Agricultural Affairs (TFAA), USDA.

ACTION: Notice.

SUMMARY: This notice informs the public of the sanitary and phytosanitary standard-setting activities of the Codex Alimentarius Commission (Codex), in accordance with section 491 of the Trade Agreements Act of 1979, as amended, and the Uruguay Round Agreements Act. This notice also provides a list of other standard-setting activities of Codex, including commodity standards, guidelines, codes of practice, and revised texts. This notice, which covers Codex activities during the time periods from June 21, 2019 to May 31, 2020 and June 1, 2020 to May 31, 2021, seeks comments on standards under consideration and recommendations for new standards.

ADDRESSES: The U.S. Codex Office (USCO) invites interested persons to submit their comments on this notice. Comments may be submitted by one of the following methods:

• Federal e-Rulemaking Portal: This website provides the ability to type short comments directly into the comment field on this web page or attach a file for lengthier comments. Go to http://www.regulations.gov. Follow the on-line instructions at the website for submitting comments.

• Mail, including CD-ROMs, etc.: Send to Docket Clerk, U.S. Department of Agriculture, Office of Trade and Foreign Agricultural Affairs, 1400 Independence Avenue SW, Mailstop S4861, Washington, DC 20250-3700.

• Hand- or courier-delivered submittals: Deliver to 1400 Independence Avenue SW, Room 4861, Washington, DC 20250-3700.

Instructions: All items submitted by mail or email are to include the Agency name and docket number USDA-2020-0007. Comments received in response to this docket will be made available for public inspection and posted without change, including any personal information to http://www.regulations.gov.

Please state that your comments refer to Codex and, if your comments relate to specific Codex committees, please identify the committee(s) in your comments and submit a copy of your comments to the delegate from that particular committee.

Docket: For access to background documents or comments received, call (202) 720-5627 to schedule a time to visit the TFAA Docket Room at 1400 Independence Avenue SW, Room S4861, Washington, DC 20250-3700.

FOR FURTHER INFORMATION CONTACT: Ms. Mary Frances Lowe, United States Manager for Codex Alimentarius, U.S. Department of Agriculture, Office of the Under Secretary for Trade and Foreign Agricultural Affairs, U.S. Codex Office, South Agriculture Building, 1400 Independence Avenue SW, Room 4861, Washington, DC 20250-3700; Telephone: +1 (202) 205-7760; Fax: +1 (202) 720-3157; Email: uscodex@usda.gov.

For information pertaining to particular committees, contact the delegate of that committee. A complete list of U.S. delegates and alternate delegates can be found in Attachment 2 of this notice. Documents pertaining to Codex and specific committee agendas are accessible via the internet at http://www.fao.org/fao-who-codexalimentarius/meetings/en/. The U.S. Codex Office (USCO) also maintains a website at http://www.usda.gov/codex.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). United States membership in the WTO was approved and the Uruguay Round Agreements Act (Uruguay Round Agreements) was signed into law by the President on December 8, 1994, Public Law 103-465, 108 Stat. 4809. The Uruguay Round Agreements became effective, with respect to the United States, on January 1, 1995. The Uruguay Round Agreements amended the Trade Agreements Act of 1979. Pursuant to section 491 of the Trade Agreements Act of 1979, as amended, the President is required to designate an agency to be “responsible for informing the public of the sanitary and phytosanitary (SPS) standard-setting activities of each international standard-setting organization” (19 U.S.C. 2578). The main international standard-setting organizations are Codex, the World Organisation for Animal Health (OIE), and the International Plant Protection Convention. The President, pursuant to Proclamation No. 6780 of March 23, 1995, (60 FR 15845), designated the U.S. Department of Agriculture as the agency responsible for informing the public of the SPS standard-setting activities of each international standard-setting organization. The Secretary of Agriculture has delegated to the Office of Trade and Foreign Agricultural Affairs the responsibility to inform the public of the SPS standard-setting activities of Codex. The Office of Trade and Foreign Agricultural Affairs has, in turn, assigned the responsibility for informing the public of the SPS standard-setting activities of Codex to the U.S. Codex Office (USCO).

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the USCO publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

TO OBTAIN COPIES OF THE STANDARDS LISTED IN ATTACHMENT 1, PLEASE CONTACT THE U.S. DELEGATE OR THE U.S. CODEX OFFICE.

This notice also solicits public comment on standards that are currently under consideration or planned for consideration and recommendations for new standards. The U.S. delegate, in conjunction with the responsible agency, will take the comments received into account in participating in the consideration of the standards and in proposing matters to be considered by Codex.

The U.S. delegate will facilitate public participation in the United States Government's activities relating to Codex. The U.S. delegate will maintain a list of individuals, groups, and organizations that have expressed an interest in the activities of the Codex committees and will disseminate information regarding U.S. delegation activities to interested parties. This information will include the status of each agenda item; the U.S. Government's position or preliminary position on the agenda items; and the time and place of planning meetings and debriefing meetings following the Codex committee sessions. In addition, the USCO makes much of the same information available through its web page at http://www.usda.gov/codex. If you would like to access or receive information about specific committees, please visit the web page or notify the appropriate U.S. delegate or the U.S. Codex Office, Room 4861, South Agriculture Building, 1400 Independence Avenue SW, Washington, DC 20250-3700 (uscodex@usda.gov).

The information provided in Attachment 1 describes the status of Codex standard-setting activities by the Codex committees for the time periods from June 21, 2019 to May 31, 2020 and June 1, 2020 to May 31, 2021. Attachment 2 provides a list of U.S. Codex officials (including U.S. delegates and alternate delegates). A list of forthcoming Codex sessions may be found at: http://www.codexalimentarius.org/meetings-reports/en/.

Additional Public Notification

Public awareness of all segments of rulemaking and policy development is important. Consequently, the USCO will announce this Federal Register publication on-line through the U.S. Codex web page located at: https://www.federalregister.gov/agencies/us-codex-office.

Done at Washington, DC.
Mary Lowe,
U.S. Manager for Codex Alimentarius.

Attachment 1

Sanitary and Phytosanitary Activities of Codex

Codex Alimentarius Commission and Executive Committee

The Codex Alimentarius Commission (CAC) was scheduled to convene for its 43rd Session on July 6-11, 2020 in Rome, Italy; however, it will be rescheduled to a later date and time due to ongoing concerns related to the novel coronavirus (COVID-19) pandemic. At its 43rd Session, the Commission will consider adopting standards recommended by committees at Step 8 or ⅝ (final adoption) and advance the work of committees by adopting draft standards at Step 5 (for further comment and consideration by the relevant committee). The Commission will also consider revocation of Codex texts; proposals for new work; discontinuation of work; amendments to Codex standards and related texts; and matters arising from the Reports of the Commission, the Executive Committee, and subsidiary bodies. Although the agenda for the 43rd Session is not yet available, it is expected that the Commission will also consider Codex budgetary and financial matters; FAO/WHO scientific support to Codex (activities, budgetary and financial matters); matters arising from FAO/WHO; reports of side events; election of the chairperson and vice-chairpersons and members of the Executive Committee elected on a geographical basis; designation of countries responsible for appointing the chairpersons of Codex subsidiary bodies; any other business; and adoption of the report.

Before the Commission meeting, the Executive Committee (CCEXEC) was also scheduled to meet for its 79th Session on June 29-July 3, 2020, however this too has been postponed and will be rescheduled due to COVID-19 related issues. CCEXEC is composed of the Commission chairperson; vice-chairpersons; seven members elected by the Commission from each of the following geographic regions: Africa, Asia, Europe, Latin America and the Caribbean, Near East, North America, and South-West Pacific; and regional coordinators from the six regional coordinating committees. The United States will participate as the member elected on a geographical basis for North America. The Executive Committee agenda for the 79th session is not yet available.

Responsible Agency: USDA/TFAA/USCO.

U.S. Participation: Yes.

Codex Committee on Cereals, Pulses and Legumes

The Codex Committee on Cereals, Pulses and Legumes (CCCPL) elaborates worldwide standards and/or Codes of Practice, as appropriate, for cereals, pulses and legumes and their products.

The committee has been reactivated to work by correspondence to draft an international Codex standard for quinoa.

The following item will be considered by the 43rd Session of the Commission:

• Inclusion of the section on grain size in the Standard for Quinoa, (CXS 333-2019) adopted at Step 8 at CAC42 (2019).

No additional work is ongoing in this committee. It will again be adjourned sine die once the CAC determines whether there is consensus to include the section on grain size in the Standard for Quinoa.

Responsible Agencies: HHS/FDA/Center for Food Safety and Applied Nutrition (CFSAN).

U.S. Participation: Yes.

Codex Committee on Contaminants in Foods

The Codex Committee on Contaminants in Foods (CCCF) establishes or endorses recommended maximum levels (MLs) to be legally permitted in a commodity, and, where necessary, revises existing guideline levels (GLs) for contaminants and naturally occurring toxicants in food and feed; prepares priority lists of contaminants and naturally occurring toxicants for risk assessment by the Joint FAO/WHO Expert Committee on Food Additives (JECFA); considers and elaborates methods of analysis and sampling for the determination of contaminants and naturally occurring toxicants in food and feed; considers and elaborates standards or codes of practice (CoPs) for related subjects; and considers other matters assigned to it by the Commission in relation to contaminants and naturally occurring toxicants in food and feed.

The 14th Session of the CCCF, originally scheduled for April 20-24, 2020, in Utrecht, Netherlands, has been postponed due to ongoing concerns related to the Coronavirus (COVID-19) pandemic. It is now scheduled for May 3-7, 2021.

The committee has the following item that will be considered again by the 43rd Session of the Commission.

To be considered for adoption Step 5, allowing for further consideration by the next session of CCCF:

• Draft ML for cadmium in chocolates containing or declaring <30% total cocoa solids on a dry matter basis.

The committee will continue working on:

• Proposed draft MLs for cadmium in chocolate and chocolate products containing or declaring ≥30% to <50% total cocoa solids on a dry matter basis; and cocoa powder (100% total cocoa solids on a dry matter basis);

• Proposed draft code of practice for the prevention and reduction of cadmium contamination in cocoa beans;

• Proposed draft MLs for lead in selected commodities for inclusion in the General Standard for Contaminants and Toxins in Food and Feed (GSCTFF) (CXS 193-1995);

• Proposed draft revision of the Code of Practice for the Prevention and Reduction of Lead Contamination in Foods (CXS 56-2004);

• Proposed draft MLs for total aflatoxins in certain cereals and cereal based products including foods for infants and young children;

• Proposed draft ML for total aflatoxins in ready-to-eat peanuts and associated sampling plan;

• Proposed draft MLs for total aflatoxins and ochratoxin A in nutmeg, dried chili and paprika, ginger, pepper and turmeric, and associated sampling plans;

• Discussion paper on radioactivity in feed and food (including drinking water) in normal circumstances;

• Discussion paper on MLs for cadmium and lead in quinoa;

• Discussion paper on MLs for methylmercury in additional fish species;

• Discussion papers on MLs for HCN in cassava and cassava-based products and CoP for the prevention and reduction of mycotoxin contamination in cassava and cassava-based products;

• General guidance on data analysis for ML development and for improved data collection;

• Discussion paper on approach to identify the need for revision of standards and related texts developed by CCCF;

• Forward work plan for CCCF, including:

○ Review of staple food-contaminant combinations for future work of CCCF; and

○ Project plan for the evaluation of implementation of CoPs of CCCF.

• Priority list of contaminants and naturally occurring toxicants for evaluation by JECFA; and

• Follow-up work to the outcome of JECFA evaluations.

Responsible Agencies: HHS/FDA; USDA/Food Safety and Inspection Service (FSIS).

U.S. Participation: Yes.

Codex Committee on Food Additives

The Codex Committee on Food Additives (CCFA) establishes or endorses acceptable maximum levels (MLs) for individual food additives; prepares a priority list of food additives for risk assessment by the JECFA; assigns functional classes to individual food additives; recommends specifications of identity and purity for food additives for adoption by the Codex Alimentarius Commission; considers methods of analysis for the determination of additives in food; and considers and elaborates standards or codes of practice for related subjects such as the labeling of food additives when sold as such.

The 52nd Session of the CCFA, originally scheduled for March 2-6, 2020, in Lanzhou, China, has been postponed due to ongoing concerns related to the coronavirus (COVID-19) pandemic. It is now scheduled for March 8-12, 2021.

The committee will continue working on:

• Draft and Proposed draft food additive provisions of the General Standard for Food Additives (GSFA) (electronic Working Group (EWG) led by the United States);

• Proposals for additions and changes to the priority list of substances proposed for evaluation by JECFA (physical Working Group (PWG) led by Canada);

• Alignment of the food additive provisions of commodity standards and relevant provisions of the GSFA (EWG led by Australia, Japan and the United States);

• Revision of the class names and the international numbering system for food additives (EWG led by Belgium);

• Provisions related to the use of sweeteners with Note 161 attached to (1) determine if sweeteners or flavor enhancers are justified in specific food categories and (2) developing wording for an alternative to Note 161 relating to the use of sweeteners or flavor enhancers in food categories where the use is technologically justified;

• Issues with the online GSFA which prevent the implementation of committee decisions and to inform the Executive Committee on this matter.

The committee also agreed to hold a one and half day PWG on the GSFA immediately preceding the 52nd Session of CCFA, to be chaired by the United States. That group will discuss:

• The recommendations of the EWG on the GSFA and new proposals and proposed revisions of food additive provisions in the GSFA.

The committee also agreed to hold a half day PWG immediately preceding the 52nd Session of CCFA on alignment of the food additive provisions of commodity standards and relevant provisions of the GSFA, to be chaired by Australia. That group will discuss the recommendations of the EWG on alignment.

Responsible Agency: HHS/FDA/CFSAN.

U.S. Participation: Yes.

Codex Committee on Fresh Fruits and Vegetables

The Codex Committee on Fresh Fruits and Vegetables (CCFFV) is responsible for elaborating worldwide standards and codes of practice, as may be appropriate, for fresh fruits and vegetables, consulting as necessary, with other international organizations in the standards development process to avoid duplication.

The committee convened its 21st Session in Monterrey, Nuevo León, Mexico from October 7-11, 2019. The relevant document is REP 20/FFV.

The committee has the following items that will be considered by the 43rd Session of the Commission.

To be considered for final adoption at Step 8 and Step ⅝:

• Draft standard for garlic;

• Draft standard for kiwifruit;

• Draft standard for ware potatoes;

• Draft standard for yams;

The committee will continue working on:

• Proposed draft standard for onions and shallots;

• Proposed draft standard for berry fruits;

• Proposed draft standard for fresh dates;

• Discussion paper on glossary terms used in the layout for Codex standards for fresh fruits and vegetables.

Responsible Agencies: USDA/Agricultural Marketing Service (AMS); HHS/FDA/CFSAN.

U.S. Participation: Yes.

Codex Committee on Food Hygiene

The Codex Committee on Food Hygiene (CCFH) is responsible for developing basic provisions on food hygiene, applicable to all food or to specific food types; considering and amending or endorsing provisions on food hygiene contained in Codex commodity standards and Codex of Practice developed by other committees; considering specific food hygiene problems assigned to it by the Commission; suggesting and prioritizing areas where there is a need for microbiological risk assessment at the international level and developing questions to be addressed by the risk assessors; and considering microbiological risk management matters in relation to food hygiene and in relation to the FAO/WHO risk assessments.

The committee convened for its 51st Session in Cleveland, Ohio, United States, November 4-8, 2019. The relevant document is REP20/FH.

The following items will be considered by the 43rd Session of the Commission.

To be considered for final adoption at Step 8 and Step 5/8:

• Draft revision of the General Principles of Food Hygiene (CXC 1-1969); and

• Draft code of practice on food allergen management for food business operators.

To be considered for adoption Step 5, allowing for further consideration by the next session of CCFH:

• Proposed draft guidance for the management of biological foodborne outbreaks.

To be considered for approval as new work:

• Guidelines for the safe use and reuse of water in food production.

The committee will continue working on:

• Diagram/decision tree to accompany the draft revision of the General Principles of Food Hygiene (CXC 1-1969);

• Redrafting proposed draft guidelines for the control of Shiga toxin producing Escherichia coli (STEC) in raw beef, raw milk and raw milk cheeses, fresh leafy vegetables, and sprouts; and

• New work proposals/forward workplan.

Responsible Agencies: HHS/FDA/CFSAN; USDA/FSIS.

U.S. Participation: Yes.

Codex Committee on Food Import and Export Inspection and Certification Systems

The Codex Committee on Food Import and Export Inspection and Certification Systems (CCFICS) is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The 25th Session of the CCFICS, originally scheduled for April 27-May 1, 2020, in Hobart, Tasmania, Australia, has been postponed due to ongoing concerns related to the coronavirus (COVID-19) pandemic. It is now scheduled for March 22-26, 2021.

The committee will continue working on:

• Draft principles and guidelines for the assessment and use of voluntary Third Party Assurance (vTPA) programs;

• Proposed draft guidance on paperless use of electronic certificates (revision of the Guidelines for Design, Production, Issuance and Use of Generic Official Certificates (CXG 38-2001));

• Proposed draft guidelines on recognition and maintenance of equivalence of national food control systems (NFCS);

• Proposed draft consolidated Codex guidelines related to equivalence; and

• Discussion paper on role of CCFICS with respect to tackling food fraud in the context of food safety and fair practices in food trade.

Responsible Agencies: USDA/FSIS; HHS/FDA/CFSAN.

U.S. Participation: Yes.

Codex Committee on Food Labelling

The Codex Committee on Food Labelling (CCFL) drafts provisions on labeling applicable to all foods; considers, amends, and endorses draft specific provisions on labeling prepared by the Codex Committees drafting standards, codes of practice, and guidelines; and studies specific labeling problems assigned to it by the Codex Alimentarius Commission. The Committee also studies problems associated with the advertisement of food with particular reference to claims and misleading descriptions.

The Committee is scheduled to meet October 19-23, 2020, in Canada. It does not have any items that will be considered for adoption or approval by the 43rd Session of the Commission.

The committee will continue working on:

• Proposed draft guidelines on front-of-pack nutrition labeling;

• Proposed draft guidance on internet sales/e-commerce;

• Revision of the General Standard for the Labelling of Prepackaged Foods: Allergen labeling and proposed draft guidance on precautionary or advisory allergen labeling;

• Discussion paper on innovation—use of technology in food labeling;

• Discussion paper on labeling of alcoholic beverages; and

• Discussion paper on future work and direction of CCFL (update).

Responsible Agencies: HHS/FDA/CFSAN; USDA/FSIS.

U.S. Participation: Yes.

Codex Committee on Fats and Oils

The Codex Committee on Fats and Oils (CCFO) is responsible for elaborating worldwide standards for fats and oils of animal, vegetable, and marine origin, including margarine and olive oil.

The Committee is currently scheduled to host its 27th session in early 2021 in Malaysia. It does not have any items that will be considered for adoption or approval by the 43rd Session of the Commission.

The committee will continue working on:

• Revision of the Standard for Named Vegetable Oils (CXS 201-1999): Essential composition of sunflower seed oils;

• Revision of the Standard for Named Vegetable Oils (CXS 210-1999): Inclusion of avocado oil;

• Revision of the Standard for Olive Oils and Pomace Olive Oils (CXS 33-1981); and

• Proposals for new substances to be added to the list of acceptable previous cargo (Appendix II to RCP 36-1987).

Responsible Agencies: HHS/FDA/CFSAN; USDA/Agricultural Research Service (ARS).

U.S. Participation: Yes.

Codex Committee on General Principles

The Codex Committee on General Principles (CCGP) is responsible for procedural and general matters referred to it by the Codex Alimentarius Commission, including: (a) The review or endorsement of procedural provisions/texts forwarded by other subsidiary bodies for inclusion in the Procedural Manual of the Codex Alimentarius Commission; and (b) The consideration and recommendation of other amendments to the Procedural Manual.

The 32nd Session of the CCGP, originally scheduled for March 23-27, 2020, in Bordeaux, France, has been postponed due to ongoing concerns related to the coronavirus (COVID-19) pandemic.

The committee will continue working on:

• Procedural guidance for committees working by correspondence;

• Revisions/amendments to Codex texts;

• Format and structure of the Codex Procedural Manual;

• Discussion paper on monitoring the use of Codex standards; and

• Discussion paper on monitoring Codex results in the context of the Sustainable Development Goals (SDGs).

Responsible Agencies: USDA/TFAA/USCO.

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its committees; and defines procedures, protocols, guidelines or related texts for the assessment of food laboratory proficiency, as well as quality assurance systems for laboratories.

The 40th Session of the CCMAS, originally scheduled for May 11-15, 2020, in Budapest, Hungary has been postponed due to ongoing concerns related to the coronavirus (COVID-19) pandemic. It is now scheduled for May 17-21, 2021.

The committee will continue working on:

• Endorsement of methods of analysis and sampling plans for provisions in Codex standards;

• Revision of the dairy methods workable package;

• Revision of the fats and oils methods workable package;

• Revision of the General Guidelines on Sampling (CAC/GL 50-2004);

• Revision of the Guidelines on Measurement Uncertainty (CAC/GL 54-2004); and

• Discussion paper on criteria to select Type II methods from multiple Type III methods.

Responsible Agencies: HHS/FDA/CFSAN; USDA/AMS.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The committee convened its 41st Session in Dusseldorf, Germany, November 24-29, 2019. The reference document is REP 20/NFSDU.

The following items will be considered for adoption by the 43rd Session of the Commission.

To be considered for adoption at Step 5, allowing for further consideration by the next session of CCNFSDU:

• Review of the Standard for Follow-up Formula: Section B: Proposed draft scope, description and labeling (CXS 156-1987);

• Proposed draft guideline for ready-to-use therapeutic foods; and

• Provisions for xanthum gum (INS 415) and pectins (INS 440)(CXS 72-1981).

To be considered for discontinuation:

• Condition for a claim for “free of” trans fatty acids (TFAs) (CXG 2-1985); and

• Definition of biofortification.

The committee will continue working on:

• Review of the Standard for Follow-up Formula (CXS 156-1987): Remaining sections.

The following items have been completed are on hold pending completion of the review of the Standard for Follow-up Formula:

• Review of the Standard for Follow-up Formula: Section A: Scope, description and labeling; and

• Review of the Standard for Follow-up Formula: Essential composition requirements for Section A and Section B.

Responsible Agencies: HHS/FDA/CFSAN; USDA/ARS.

U.S. Participation: Yes.

Codex Committee on Processed Fruits and Vegetables

The Codex Committee on Processed Fruits and Vegetables (CCPFV) is responsible for elaborating worldwide standards and related texts for all types of processed fruits and vegetables including, but not limited to canned, dried, and frozen products, as well as fruit and vegetable juices and nectars.

The committee convened by correspondence for its 29th Session, January 9, 2019 to May 7, 2020.

The committee has the following items that could continue to be discussed or that could be considered for adoption by the 43rd Session of the Commission.

• Conversion of the regional standard for chili sauce into an international Codex standard;

• Proposed revisions to the Standard for Mango Chutney (CXS 160-1987);

• Conversion of the regional standard for gochujang to an international Codex standard;

• Proposed draft general standard for dried fruits;

• Proposed draft general standard for canned fruit salads;

• Matters for referral to CCFA; and

• Matters for referral to CCMAS.

Responsible Agencies: USDA/AMS; HHS/FDA/CFSAN.

U.S. Participation: Yes.

Codex Committee on Pesticide Residues

The Codex Committee on Pesticide Residues (CCPR) is responsible for establishing maximum residue limits (MRLs) for pesticide residues in specific food items or in groups of food; establishing MRLs for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides in specific food items or groups of food.

The 51st Session of the CCPR, originally scheduled for March 30-April 4, 2020, in Guangzhou, China, has been postponed due to ongoing concerns related to the coronavirus (COVID-19) pandemic. It is now scheduled for April 12-17, 2021.

The committee will continue working on:

• Revision of the Classification of Food and Feed (CXA 4-1989) for selected commodity groups:

○ Revision of Class C, animal feed commodities, taking into account silage, fodder, and a separate group for grasses;

○ Revision of Class D, processed food commodities;

○ Transferring commodities from Class D to Class C;

○ Creating tables with representative crops for Class C and D; and

○ Edible animal tissues (including edible offal), in collaboration with the Codex Committee on Residues of Veterinary Drugs in Foods (CCRVDF) EWG on edible animal tissues.

• Harmonization of mammalian meat MRLs between CCPR and CCRVDF;

• Establishment of a Codex database of national registration of pesticides;

• Establishment of JMPR schedules and priority lists for evaluations of pesticides;

• Discussion paper on the review of the international estimated short-term intake (IESTI) equations (possible revision);

• Guidelines for compounds of low public health concern that could be exempted from the establishment of Codex maximum residue limits for pesticides (CXLs);

• Management of unsupported compounds in the CCPR schedules and priority lists of pesticides for evaluation by the JMPR;

• Review of the Guidelines on the use of mass spectrometry for the identification, confirmation and quantitative determination of pesticide residues (CXG 56-2005) and the Guidelines on performance criteria for methods of analysis for the determination of pesticide residues in food and feed (CXG 90-2017); and

• Opportunities and challenges for JMPR participation in international review of a new compound.

Responsible Agencies: EPA/Office of Chemical Safety and Pollution Prevention (OCSPP)/Office of Pesticide Programs (OPP); USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to any food producing animal, such as meat or milk producing animals, poultry, fish, or bees, whether used for therapeutic, prophylactic or diagnostic purposes, or for modification of physiological functions or behavior.

A Codex Maximum Residue Limit (MRL) for residues of veterinary drugs is the maximum concentration of residue resulting from the use of a veterinary drug (expressed in mg/kg or ug/kg on a fresh weight basis) that is recommended by the Codex Alimentarius Commission to be permitted or recognized as acceptable in or on a food. Residues of a veterinary drug include the parent compounds or their metabolites in any edible portion of the animal product and include residues of associated impurities of the veterinary drug concerned. An MRL is based on the type and amount of residue considered to be without any toxicological hazard for human health as expressed by the Acceptable Daily Intake (ADI) or on the basis of a temporary ADI that utilizes an additional safety factor. When establishing an MRL, consideration is also given to residues that occur in food of plant origin or the environment. Furthermore, the MRL may be reduced to be consistent with official recommended or authorized usage, approved by national authorities, of the veterinary drugs under practical conditions.

An ADI is an estimate made by the JECFA of the amount of a veterinary drug, expressed on a body weight basis, which can be ingested daily in food over a lifetime without appreciable health risk.

The 25th Session of CCRVDF, originally scheduled for May 25-29, 2020, in San Diego, California, United States, has been postponed due to ongoing concerns related to the coronavirus (COVID-19) pandemic. It is now scheduled for January 25-29, 2021.

The committee will continue working on:

• Draft MRL for flumethrin (honey);

• Draft MRLs for diflubenzuron (salmon—muscle plus skin in natural proportion); halquinol (in swine—muscle, skin plus fat, liver and kidney); ivermectin (sheep, pigs and goats—fat, kidney, liver and muscle);

• Draft MRLs for zilpaterol hydrochloride (cattle fat, kidney, liver, muscle);

• Discussion paper on extrapolation of MRLs to one or more species (including apilot on extrapolation of MRLs identified in Part D of the Priority List—REP18/RVDF, App. VI);

• Discussion paper on the development of a harmonized definition for edible tissues of animal origin (including edible offal) (in coordination with CCPR);

• Discussion paper on advantages and disadvantages of a parallel approach to compound evaluation;

• Database on countries' needs for MRLs; and

• Priority List of veterinary drugs requiring evaluation or re-evaluation by JECFA.

Responsible Agencies: HHS/FDA/Center for Veterinary Medicine (CVM); USDA/FSIS.

U.S. Participation: Yes.

Codex Committee on Sugars

The Codex Committee on Sugars (CCS) elaborates worldwide standards for all types of sugars and sugar products.

The Committee had been re-activated electronically to work by correspondence on a draft standard for panela and/or common or vernacular name as known in each country (non-centrifuged sugar).

The 42nd Session of the Commission (July 2019) decided to discontinue work on the following draft standard and adjourned the CCS sine die:

• Draft Standard for panela and/or common or vernacular name as known in each country (non-centrifuged sugar).

Responsible Agencies: HHS/FDA/CFSAN.

U.S. Participation: Yes.

Codex Committee on Spices and Culinary Herbs

The Codex Committee on Spices and Culinary Herbs (CCSCH) is responsible for elaborating worldwide standards for spices and culinary herbs in their dried and dehydrated state in whole, ground, and cracked or crushed form. It also consults, as necessary, with other international organizations in the standards development process to avoid duplication.

The Committee is scheduled to meet September 21-26, 2020 and does not have items that will be considered for adoption or approval by the 43rd Session of the Commission.

The committee will continue working on:

• Draft standard for dried oregano;

• Draft standard for dried roots, rhizomes, and bulbs—dried or dehydrated ginger;

• Draft standard for dried basil;

• Draft standard for dried floral parts—dried cloves;

• Draft standard for saffron.

• Draft standard for dried and/or dehydrated chili and paprika;

• Draft standard for nutmeg; and

• Working Group (WG) on priorities and group standards.

Responsible Agencies: USDA/AMS; HHS/FDA/CFSAN.

U.S. Participation: Yes.

Ad hoc Codex Intergovernmental Task Force on Antimicrobial Resistance

The Ad hoc Codex Intergovernmental Task Force on Antimicrobial Resistance (TFAMR) is responsible for reviewing and revising, as appropriate, the Code of Practice to Minimize and Contain Antimicrobial Resistance (CAC/RCP 61-2005) to address the entire food chain, in line with the mandate of Codex; and considering the development of Guidance on Integrated Surveillance of Antimicrobial Resistance, taking into account the guidance developed by the WHO Advisory Group on Integrated Surveillance of Antimicrobial Resistance (AGISAR) and relevant World Organization for Animal Health (OIE) documents. The objective of the Task Force is to develop science-based guidance on the management of foodborne antimicrobial resistance, taking full account of the WHO Global Action Plan on Antimicrobial Resistance, in particular Objectives 3 and 4, the work and standards of relevant international organizations, such as FAO, WHO, and OIE, and the One-Health approach, to ensure members have the necessary guidance to enable coherent management of antimicrobial resistance along the food chain. The Task Force is expected to complete this work within three (or a maximum of four) sessions.

The Task Force convened for its 7th Session (the 3rd Session since reactivation in 2016) in Pyeongchang, Republic of Korea, December 9-13, 2019, working on draft text for the Code of Practice (CoP) and Guidelines on Integrated Surveillance (GLIS).

The Task Force has the following item to be considered by the 43rd Session of the Commission.

For adoption at Step 5, allowing for further consideration at the next session of TFAMR:

• Proposed draft revision of the Code of Practice to Minimize and Contain Antimicrobial Resistance (CXC 61-2005).

The TFAMR will continue working on:

• Proposed draft guidelines on integrated surveillance of antimicrobial resistance.

Responsible Agencies: HHS/FDA; USDA.

U.S. Participation: Yes.

Adjourned Codex Commodity Committees

Several Codex Alimentarius Commodity Committees have adjourned sine die. The following Committees fall into this category:

Cocoa Products and Chocolate—Adjourned 2001

Responsible Agency: HHS/FDA/CFSAN.

U.S. Participation: Yes.

Fish and Fishery Products—Adjourned 2016

Responsible Agency: HHS/FDA/CFSAN; DOC/NOAA.

U.S. Participation: Yes.

Meat Hygiene—Adjourned 2003

Responsible Agency: USDA/FSIS.

U.S. Participation: Yes.

Milk and Milk Products—Adjourned 2017

Responsible Agency: USDA/AMS; HHS/FDA/CFSAN.

U.S. Participation: Yes.

Natural Mineral Waters—Adjourned 2008

Responsible Agency: HHS/FDA/CFSAN.

U.S. Participation: Yes.

Sugars—Adjourned 2019

Responsible Agency: HHS/FDA/CFSAN.

U.S. Participation: Yes.

Vegetable Proteins—Adjourned 1989

Responsible Agency: USDA/ARS.

U.S. Participation: Yes.

FAO/WHO Regional Coordinating Committees

The FAO/WHO Regional Coordinating Committees define the problems and needs of the regions concerning food standards and food control; promote within the committee contacts for the mutual exchange of information on proposed regulatory initiatives and problems arising from food control and stimulate the strengthening of food control infrastructures; recommend to the Commission the development of worldwide standards for products of interest to the region, including products considered by the committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to them by the Commission; and promote the use of Codex standards and related texts by members.

There are six regional coordinating committees:

• Coordinating Committee for Africa;

• Coordinating Committee for Asia;

• Coordinating Committee for Europe;

• Coordinating Committee for Latin America and the Caribbean;

• Coordinating Committee for the Near East; and

• Coordinating Committee for North America and the South West Pacific.

Coordinating Committee for Africa

The Committee (CCAFRICA) convened its 23rd Session in Nairobi, Kenya, September 2-6, 2019.

The committee discussed the following agenda items:

• Use of Codex standards in the region;

• Matters referred from the Codex Alimentarius Commission and other Codex Committees;

• Implementation of the Codex Strategic Plan 2014-2019;

• Codex Strategic Plan 2020-2025;

• Codex communications work plan;

• Draft standard for fermented cooked cassava-based products;

• Draft standard for Gnetum spp leaves;

• Draft standard for dried meat;

• Discussion paper on regional harmonized food law guidelines for the CCAFRICA region;

• Discussion paper on the development of a regional standard for fermented non-alcoholic cereal-based drink (Mahewu); and

• Nomination of the coordinator;

The committee has the following item for consideration by the 43rd Session of the Commission.

For Appointment:

• CCAFRICA will nominate a new Regional Coordinator for Africa at the next session of the CAC.

Responsible Party: USDA/TFAA/USCO.

U.S. Participation: Yes (as an observer).

Coordinating Committee for Asia

The Committee (CCASIA) convened its 21st Session in Goa, India, September 23-27, 2019.

The committee discussed the following agenda items:

• Use of Codex standards in the region;

• Matters arising from the Codex Alimentarius Commission and other Codex Committees;

• Codex work relevant to the region;

• Implementation of the Codex Strategic Plan 2014-2019;

• Codex Strategic Plan 2020-2025;

• Codex communications work plan;

• Discussion paper/project document on the development of a regional standard for rice-based low alcohol beverages (cloudy types);

• Discussion paper/project document on the development of a regional standard for soybean products fermented with the bacterium Bacillus subtilis;

• Discussion paper/project document on the development of a regional standard for quick frozen dumplings (Ziaozi);

• Discussion paper/project document on the development of a regional standard/code of practice for Zongzi;

• Nomination of coordinator; and

• Other business.

The committee has the following items for consideration by the 43rd Session of the Commission.

To be considered for approval as new work:

• Development of a regional standard for soybean products fermented with Bacillus species;

• Development of a regional standard for quick frozen dumpling; and

• Development of a regional standard for cooked rice wrapped in plant leaves.

For Appointment:

• CCASIA recommends that China be appointed for a first term as Regional Coordinator for Asia.

Responsible Party: USDA/TFAA/USCO.

U.S. Participation: Yes (as an observer).

Coordinating Committee for Europe

The Committee (CCEURO) convened its 31st Session in Almaty, Kazakhstan, September 30-October 4, 2019.

The committee discussed the following agenda items:

• Food safety and quality situation in the countries of the region: Current and emerging issues in the region;

• The future of food safety: Outcome of the first FAO/WHO/African Union (AU) International Food Safety Conference and the International Forum on Food Safety and Trade;

• Food safety and quality situation in the countries of the region: Use of the online platform for information sharing on food safety control systems; status of information and future plans/prospects;

• Use of Codex standards in the region;

• Matters arising from the Codex Alimentarius Commission and other Codex Committees;

• Codex work relevant to the region;

• Implementation of the Codex Strategic Plan 2014-2019;

• Codex Strategic Plan 2020-2025—Roadmap to implementation;

• Codex communications workplan;

• Language policy in CCEURO; and

• Nomination of the Coordinator.

The committee has the following item for consideration by the 43rd Session of the Commission.

For Appointment:

• CCEURO recommends reappointing Kazakhstan for a second term as Regional Coordinator for Europe.

Responsible Party: USDA/TFAA/USCO.

U.S. Participation: Yes (as an observer).

Coordinating Committee for Latin America and the Caribbean

The Committee (CCLAC) scheduled its 21st Session in Santiago, Chile, from 21-25 October 2019. The meeting opened one day later than scheduled to ensure the security and safety of all delegates following demonstrations in the Metropolitan Region of Santiago that led to the declaration of a Constitutional State of Emergency. After two half days of discussions (22 and 23 October 2019), the session was discontinued due to the persisting situation in Santiago and the increasing challenge to ensure the security and safety of delegates.

The committee discussed the following agenda items:

• Food safety and quality in countries in the region: Current and emerging issues in the region;

• The future of food safety: Outcome of the first FAO/WHO/AU international food safety conference and the international forum on food safety and trade;

• Food safety and quality situation in the countries in the region: Use of the online platform for information sharing on food safety control systems; status of information and future plans/prospects;

• Use of Codex standards in the region;

• Matters arising from the Codex Alimentarius Commission and other Codex committees;

• Codex work relevant to the region;

• Codex strategic plan 2020-2025—roadmap to implementation; and

• Codex communications work plan.

The committee has the following item for consideration by the 43rd Session of the Commission.

For Appointment:

• CCLAC recommends that Ecuador be appointed for a first term as Regional Coordinator for Latin America and the Caribbean.

Responsible Party: USDA/TFAA/USCO.

U.S. Participation: Yes (as an observer).

Coordinating Committee for North America and the South West Pacific

The Committee convened its 15th Session in Port Vila, Vanuatu, September 16-20, 2019.

The committee discussed the following agenda items:

• Keynote address—Managing food safety in an era of accelerated climate change;

• Food safety and quality situation in the countries of the region: Current and emerging issues in the region;

• The Future of Food Safety: Outcome of the First FAO/WHO/AU International Food Safety Conference and the International Forum on Food Safety and Trade;

• Food safety and quality situation in the countries of the region: Use of the online platform for information sharing on food safety control systems; status of information and future plans/prospects;

• Use of Codex standards in the region;

• Matters referred from the Codex Alimentarius Commission and other Codex committees;

• Codex work relevant to the region;

• Implementation of the Codex Strategic Plan 2014-2019;

• Codex Strategic Plan 2020-2025—Roadmap to Implementation; and

• Codex communications work plan.

The committee has the following items for consideration by the 43rd Session of the Commission.

To be considered for adoption Step 5, allowing for further consideration by the next session of CCNASWP:

• Proposed draft standard for fermented noni juice; and

• Proposed draft standard for kava as a beverage when mixed with cold water.

For Appointment:

• CCNASWP recommends that Fiji be appointed for a first term as Regional Coordinator for North America and the South West Pacific.

Responsible Party: USDA/TFAA/USCO.

U.S. Participation: Yes.

Coordinating Committee for the Near East

The Committee (CCNEA) convened its 10th Session November 18-22, 2019 in Rome, Italy.

The committee discussed the following agenda items:

• Keynote address and discussion: Chemicals in food—the invisible challenge, when do we need to be worried and what do we need to know?;

• Food safety and quality situation in the countries of the region: Current and emerging issues in the region;

• The Future of Food Safety: Outcome of the First FAO/WHO/AU International Food Safety Conference and the International Forum on Food Safety and Trade;

• Food safety and quality situation in the countries of the region: Use of the online platform for information sharing on food safety control systems; status of information and future plans/prospects;

• Use of Codex standards in the region;

• Matters Arising from the Codex Alimentarius Commission and other Codex committees;

• Codex work relevant to the region;

• Implementation of the Codex Strategic Plan 2014-2019 (including Strategic plan for CCNEA 2014-2019);

• Codex Strategic Plan 2020-2025—Roadmap to Implementation;

• Codex communications work plan;

• Food additive provisions for the regional standard for doogh;

• Draft regional standard for mixed zaatar;

• Discussion paper on the development of a Codex text for ready-to-eat pre-packaged salads;

• Discussion paper on development of a standard for halal products;

• Discussion paper on the development of a regional standard for maamoul;

• Nomination of the Coordinator; and

• Other business.

The committee has the following item for consideration by the 43rd Session of the Commission.

For Appointment:

• CCNEA recommends that Saudi Arabia be appointed for a first term as Regional Coordinator for the Near East.

Responsible Party: USDA/TFAA/USCO.

U.S. Participation: Yes (as an observer).

Contact Information

U.S. Codex Office, United States Department of Agriculture, Room 4861, South Agriculture Building, 1400 Independence Avenue SW, Washington, DC 20250-3700, Phone: +1 (202) 205-7760, Fax: +1 (202) 720-3157, Email: uscodex@usda.gov.

ATTACHMENT 2

U.S. Codex Alimentarius Officials

Chairpersons from the United States

Codex Committee on Food Hygiene

Dr. Emilio Esteban, DVM, MBA, MPVM, Ph.D., Chief Scientist, Office of Public Health Science, Food Safety and Inspection Service, U.S. Department of Agriculture, 1400 Independence Ave. SW, Room 2129-South Building, Washington, DC 20250, Phone: +1 (202) 690-9058, emilio.esteban@usda.gov.

Codex Committee on Processed Fruits and Vegetables

Mr. Richard Boyd, Chief, Contract Services Branch, Specialty Crops Inspection Division, Specialty Crops Program, Agricultural Marketing Service, U.S. Department of Agriculture, 1400 Independence Avenue SW, Mail Stop 0247, Washington, DC 20250, Phone: +1 (202) 690-1201, Fax: +1 (202) 690-1527, richard.boyd@usda.gov.

Codex Committee on Residues of Veterinary Drugs in Foods

Dr. Kevin Greenlees, Ph.D., DABT, Senior Advisor for Science and Policy, Office of New Animal Drug Evaluation, Center for Veterinary Medicine, U.S. Food and Drug Administration, 7500 Standish Place (HFV-100), Rockville, MD 20855, Phone: +1 (240) 402-0638, Fax: +1 (240) 276-9538, kevin.greenlees@fda.hhs.gov.

U.S. Delegates and Alternate Delegates

Worldwide General Codex Subject Committees

Contaminants in Foods

(Host Government—The Netherlands)

U.S. Delegate: Dr. Lauren Posnick Robin, Sc.D., Branch Chief, Plant Products Branch, Division of Plant Products and Beverages, Office of Food Safety, Center for Food Safety and Applied Nutrition, U.S. Food and Drug Administration, 5001 Campus Drive (HFS-317), College Park, MD 20740, Phone: +1 (240) 402-1639, lauren.robin@fda.hhs.gov.

Alternate Delegate: Mr. Terry Dutko, Laboratory Director, Food Safety and Inspection Service, Office of Public Health Science, U.S. Department of Agriculture, 4300 Goodfellow Building, 105D Federal, St. Louis, MO 63120-0005, Phone: +1 (314) 263-2680, Extension 344, terry.dutko@usda.gov.

Food Additives

(Host Government—China)

U.S. Delegate: Dr. Paul S. Honigfort, Ph.D., Director, Division of Food Contact Substances, Office of Food Additive Safety, U.S. Food and Drug Administration, 5001 Campus Drive (HFS-275), College Park, MD 20740, Phone: +1 (240) 402-1206, Fax: +1 (301) 436-2965, paul.honigfort@fda.hhs.gov.

Alternate Delegate: Dr. Daniel Folmer, Ph.D., Chemist, Center for Food Safety and Applied Nutrition, U.S. Food and Drug Administration, 5001 Campus Drive (Room 3017 HFS-265), College Park, MD 20740, Phone: +1 (240) 402-1274, daniel.folmer@fda.hhs.gov.

Food Hygiene

(Host Government—United States)

U.S. Delegate: Ms. Jenny Scott, Senior Advisor, Office of Food Safety, Center for Food Safety and Applied Nutrition, U.S. Food and Drug Administration, 5001 Campus Drive, HFS-300, Room 3B-014, College Park, MD 20740-3835, Phone: +1 (240) 402-2166, Fax: +1 (301) 436-2632, jenny.scott@fda.hhs.gov.

Alternate Delegate: Dr. William K. Shaw, Jr., Executive Associate for Laboratory Services, Office of Public Health Science, U.S. Department of Agriculture, 1400 Independence Ave. SW, Room 3805, South Building, Washington, DC 20250, Phone: +1 (202) 720-6246, william.shaw@usda.gov.

Alternate Delegate: Dr. Andrew Chi Yuen Yeung, Ph.D., Branch Chief, Egg and Meat Products Branch, Division of Dairy, Egg and Meat Products, Office of Food Safety, Center for Food Safety and Applied Nutrition, U.S. Food and Drug Administration, 5001 Campus Drive, College Park, MD 20740, Phone: +1 (240) 402-1541, Fax: +1 (301) 436-2632, andrew.yeung@fda.hhs.gov.

Food Import and Export Certification and Inspection Systems

(Host Government—Australia)

U.S. Delegate: Ms. Mary Stanley, Senior Advisor, Office of International Coordination, Food Safety and Inspection Service, U.S. Department of Agriculture, 1400 Independence Avenue SW, Room 3151, Washington, DC 20250, Phone: +1 (202) 720-0287, Fax: +1 (202) 690-3856, mary.stanley@usda.gov.

Alternate Delegate: Ms. Caroline Smith DeWaal, International Food Safety Policy Manager, Office of the Center Director, Center for Food Safety and Applied Nutrition, U.S. Food and Drug Administration, 5001 Campus Drive, Room 4A011, College Park, MD 20740, Phone: +1 (240) 402-1242, caroline.dewaal@fda.hhs.gov.

Food Labelling

(Host Government—Canada)

U.S. Delegate: Dr. Douglas Balentine, Senior Science Advisor International Nutrition Policy, Center for Food Safety and Applied Nutrition, U.S. Food and Drug Administration, 5001 Campus Drive (HFS-830), College Park, MD 20740, Phone: +1 (240) 672-7292, Fax: +1 (301) 436-2636, douglas.balentine@fda.hhs.gov.

Alternate Delegate: Mr. Bryce Carson, Program Analyst, Office of Policy & Program Development, Food Safety and Inspection Service, U.S. Department of Agriculture, Denver Federal Center, Building 45, Entrance S-3, 695 Kipling Street, Denver, CO 80215, Phone: +1 (303) 236-9819, bryce.carson@usda.gov.

General Principles

(Host Government—France)

U.S. Delegate: Ms. Mary Frances Lowe, U.S. Manager for Codex Alimentarius, U.S. Codex Office, U.S. Department of Agriculture, 1400 Independence Avenue SW, Room 4861, Washington, DC 20250, Phone: +1 (202) 720-2057, maryfrances.lowe@usda.gov.

Methods of Analysis and Sampling

(Host Government—Hungary)

U.S. Delegate: Dr. Gregory Noonan, Director, Division of Bioanalytical Chemistry, Center for Food Safety and Applied Nutrition, Food and Drug Administration, 5001 Campus Drive, College Park, MD 20740, Phone: +1 (240) 402-2250, Fax: +1 (301) 436-2332, gregory.noonan@fda.hhs.gov.

Alternate Delegate: Dr. Timothy Norden, Ph.D., Technology and Science Division, Federal Grain Inspection Program, Agricultural Marketing Service, U.S. Department of Agriculture, 10383 N Ambassador Drive, Kansas City, MO 64153, Phone: +1 (816) 891-0470, Fax: +1 (816) 872-1253, timothy.d.norden@usda.gov.

Nutrition and Foods for Special Dietary Uses

(Host Government—Germany)

U.S. Delegate: Dr. Douglas Balentine, Senior Science Advisor International Nutrition Policy, Center for Food Safety and Applied Nutrition, U.S. Food and Drug Administration, 5001 Campus Drive (HFS-830), College Park, MD 20740, Phone: +1 (240) 672-7292, Fax: +1 (301) 436-2636, douglas.balentine@fda.hhs.gov.

Alternate Delegate: Dr. Pamela R. Pehrsson, Ph.D., Lead Scientist, Methods and Application of Food Composition Laboratory, Agricultural Research Service, U.S. Department of Agriculture, Room 105, Building 005, BARC-West, 10300 Baltimore Avenue, Beltsville, MD 20705, Phone: +1 (301) 504-0630, Fax: +1 (301) 504-0632, pamela.pehrsson@usda.gov.

Pesticide Residues

(Host Government—China)

U.S. Delegate: Captain David Miller, Chief, Chemistry and Exposure Branch, and Acting Chief, Toxicology and Epidemiology Branch, Health Effects Division, U.S. Environmental Protection Agency, William Jefferson Clinton Building, 1200 Pennsylvania Avenue NW, Washington, DC 20460, Phone: +1 (703) 305-5352, Fax: +1 (703) 305-5147, miller.davidj@epa.gov.

Alternate Delegate: Dr. John Johnston, Ph.D., Scientific Chemist and Scientific Liaison, Food Safety and Inspection Service, U.S. Department of Agriculture, 2150 Centre Avenue, Building D, Room 2083, Fort Collins, CO 80526, Phone: +1 (202) 365-7175, john.johnston@usda.gov.

Residues of Veterinary Drugs in Foods

(Host Government—United States)

U.S. Delegate: Ms. Brandi Robinson, MPH, CPH, ONADE International Coordinator, Center for Veterinary Medicine, U.S. Food and Drug Administration, 7500 Standish Place (HFV-100), Rockville, MD 20855, Phone: +1 (240) 402-0645, brandi.robinson@fda.hhs.gov.

Alternate Delegate: Dr. Louis Bluhm, Director, Laboratory Quality Assurance Division, Office of Public Health Science, Food Safety and Inspection Service, U.S. Department of Agriculture, Russell Research Center, 950 College Station Road, Suite PB-4, Athens, GA 30605, Phone: +1 (706) 546-2359, louis.bluhm@usda.gov.

Worldwide Commodity Codex Committees (Active)

Cereals, Pulses and Legumes

(Host Government—United States)

U.S. Delegate: Henry Kim, Ph.D., Senior Policy Analyst, Office of Food Safety, Center for Food Safety and Applied Nutrition, U.S. Food and Drug Administration, 5001 Campus Drive (HFS-317), College Park, MD, USA 20740-3835, Phone: +1 (240) 402-2023, henry.kim@fda.hhs.gov.

Alternate Delegate: Mr. Patrick McCluskey, Supervisory Agricultural Marketing Specialist, Agricultural Marketing Service, Federal Grain Inspection Service, U.S. Department of Agriculture, 10383 N Ambassador Drive, Kansas City, MO 64153, Phone: +1 (816) 659-8403, patrick.j.mccluskey@usda.gov.

Fats and Oils

(Host Country—Malaysia)

U.S. Delegate: Dr. Paul South, Ph.D., Director, Division of Plant Products and Beverages, Office of Food Safety, Center for Food Safety and Applied Nutrition, U.S. Food and Drug Administration, 5001 Campus Drive (HFS-317), College Park, MD 20740, Phone: +1 (240) 402-1640, Fax: +1 (301) 436-2632, paul.south@fda.hhs.gov.

Alternate Delegate: Dr. Jill K. Moser, Ph.D., Lead Scientist, Functional Oil Research, Agricultural Research Service, National Center for Agricultural Utilization Research, U.S. Department of Agriculture, 1815 North University Street, Peoria, IL 61604, Phone: +1 (309) 681-6390, jill.moser@usda.gov.

Fresh Fruits and Vegetables

(Host Government—Mexico)

U.S. Delegate: Mr. Dorian LaFond, International Standards Coordinator, Fruit and Vegetables Program, Specialty Crop Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: Dr. David T. Ingram, Ph.D., Consumer Safety Officer, Office of Food Safety, Fresh Produce Branch, Division of Produce Safety, Center for Food Safety and Applied Nutrition, U.S. Food and Drug Administration, 5001 Campus Drive, Room 3E027, College Park, MD 20740-3835, Phone: +1 (240) 402-0335, david.ingram@fda.hhs.gov.

Processed Fruits and Vegetables

(Host Government—United States)

U.S. Delegate: Mr. Dorian LaFond, International Standards Coordinator, Fruit and Vegetables Program, Specialty Crop Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: Dr. Rhoma Johnson, Ph.D., Consumer Safety Officer, Division of Plant Products and Beverages, Office of Food Safety, Center for Food Safety and Applied Nutrition, U.S. Food and Drug Administration, 5001 Campus Drive (HFS-317), College Park, MD 20740, Phone: +1 (240) 402-2066, rhoma.johnson@fda.hhs.gov.

Spices and Culinary Herbs

(Host Government—India)

U.S. Delegate: Mr. Dorian LaFond, International Standards Coordinator, Fruit and Vegetables Program, Specialty Crop Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: Dr. Aparna Tatavarthy, Microbiologist, Spices and Seasoning Mixes Team, Division of Plant Products and Beverages, Office of Food Safety, Center for Food Safety and Applied Nutrition, U.S. Food and Drug Administration, 5001 Campus Drive (HFS-317), College Park, MD 20740, Phone: +1 (240) 402-1013, Fax: +1 (301) 436-2632, aparna.tatavarthy@fda.hhs.gov.

Worldwide Ad Hoc Codex Task Forces (Active)

Antimicrobial Resistance (Reactivated 2016)

(Host Government—Republic of Korea)

U.S. Delegate: Dr. Donald A. Prater, DVM, Assistant Commissioner for Food Safety Integration, Office of Foods and Veterinary Medicine, U.S. Food and Drug Administration, 10903 New Hampshire Avenue, Silver Spring, MD 20993, Phone: +1 (301) 348-3007, donald.prater@fda.hhs.gov.

Alternate Delegate: Dr. Neena Anandaraman, DVM, MPH, Veterinary Science Policy Advisor, Office of Chief Scientist, U.S. Department of Agriculture, Jamie L. Whitten Building, Room 339A, 1200 Independence Avenue SW, Washington, DC 20024, Phone: +1 (202) 260-8789, neena.anandaraman@usda.gov.

Worldwide Commodity Codex Committees (Adjourned)

Cocoa Products and Chocolate (adjourned sine die 2001)

(Host Government—Switzerland)

U.S. Delegate: Dr. Michelle Smith, Ph.D., Senior Policy Analyst, Office of Food Safety, Center for Food Safety and Applied Nutrition, U.S. Food and Drug Administration, 5001 Campus Drive (HFS-317), College Park, MD 20740-3835, Phone: +1 (240) 402-2024, Fax: +1 (301) 436-2632, michelle.smith@fda.hhs.gov.

Fish and Fishery Products (adjourned sine die 2016)

(Host Government—Norway)

U.S. Delegate: Dr. William R. Jones, Principal Deputy Director for Food Safety Science and Policy, Center for Food Safety and Applied Nutrition, U.S. Food and Drug Administration, 5001 Campus Drive, College Park, MD 20740, Phone: +1 (240) 402-1422, William.Jones@fda.hhs.gov.

Alternate Delegate: Mr. Steven Wilson, Deputy Director, Office of International Affairs and Seafood Inspection, National Marine Fisheries Service, National Oceanic and Atmospheric Administration, U.S. Department of Commerce, 1315 East-West Highway, Silver Spring, Maryland 20910, Phone: +1 (301) 427-8312, steven.wilson@noaa.gov.

Meat Hygiene (adjourned sine die 2003)

(Host Government—New Zealand)

Delegate: Vacant.

Milk and Milk Products (adjourned sine die 2017)

(Host Government—New Zealand)

U.S. Delegate: Mr. Christopher Thompson, Chief, Dairy Standardization Branch, Agricultural Marketing Service, U.S. Department of Agriculture, 1400 Independence Avenue SW, Mail Stop 0230, Room 2756, Washington, DC 20250, Phone: +1 (202) 720-9382, Fax: +1 (844) 804-4701, christopher.d.thompson@usda.gov.

Alternate Delegate: Mr. John F. Sheehan, Senior Advisor for Compliance and Enforcement, Office of Food Safety, Center for Food Safety and Applied Nutrition, U.S. Food and Drug Administration (HFS-315), Harvey W. Wiley Federal Building, 5001 Campus Drive, College Park, MD 20740, Phone: +1 (240) 402-1488, Fax: +1 (301) 436-2632, john.sheehan@fda.hhs.gov.

Natural Mineral Waters (adjourned sine die 2008)

(Host Government—Switzerland)

Delegate: Vacant.

Codex Committee on Sugars (CCS)

(Host Government—Colombia)

U.S. Delegate: Dr. Chia-Pei Charlotte Liang, Chemist, Office of Food Safety, Center for Food Safety and Applied Nutrition, U.S. Food and Drug Administration, 5001 Campus Drive, College Park, MD 20740, Phone: +1 (240) 402-2785, charlotte.liang@fda.hhs.gov.

Vegetable Proteins (adjourned sine die 1989)

(Host Government—Canada)

Delegate: Vacant.

Ad Hoc Intergovernmental Task Forces (Dissolved)

Animal Feeding (Dissolved 2013)

(Host government—Switzerland)

Delegate: Vacant.

[FR Doc. 2020-11984 Filed 6-1-20; 4:15 pm]

BILLING CODE P